DEPARTMENT OF DEFENSE

Office of the Secretary

Department of Defense Wage Committee (DoDWC); Notice of Federal Advisory Committee Meetings

AGENCY: Under Secretary of Defense for Personnel and Readiness (USD(P&R)), Department of Defense (DoD).

ACTION: Notice of closed Federal advisory committee meetings.

SUMMARY: The DoD is publishing this notice to announce that the following Federal Advisory Committee meetings of the DoDWC will take place.

DATES:

Tuesday, October 1, 2024, from 10:00 a.m. to 11:00 a.m.; closed to the public.

Tuesday, October 15, 2024, from 10:00 a.m. to 1:00 p.m.; closed to the public.

Tuesday, October 29, 2024, from 10:00 a.m. to 10:30 a.m.; closed to the public.

Tuesday, November 12, 2024, from 10:00 a.m. to 1:00 p.m.; closed to the public.

Tuesday, November 26, 2024, from 10:00 a.m. to 11:30 a.m.; closed to the public.

Tuesday, December 10, 2024, from 10:00 a.m. to 11:30 a.m.; closed to the public.

Tuesday, December 17, 2024, from 10:00 a.m. to 11:30 a.m.; closed to the public.

ADDRESSES: The closed meetings will be held by Microsoft Teams.

FOR FURTHER INFORMATION CONTACT: Mr. Karl Fendt, Designated Federal Officer (DFO) (571) 372-1618 (voice), karl.h.fendt.civ@mail.mil. (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the Department of Defense and the Designated Federal Officer for the DoDWC, the DoDWC was unable to provide public notification required by 41 CFR 102-3.450 (a) concerning its October 1, 2024 meeting. Accordingly, the Advisory Committee Management Officer for the DoD, pursuant to 41 CFR 102-3.150(b), waives the 15-calendar day notification requirement.

These meetings are being held under the provisions of chapter 10 of title 5 United States Code (U.S.C.) (commonly known as the “Federal Advisory Committee Act” or “FACA”), 5 U.S.C. 552b (commonly known as the “Government in the Sunshine Act”), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agendas

October 1, 2024

Opening Remarks by Chair, Mr. Eric Clayton, and DFO, Mr. Karl Fendt. Reviewing survey results and/or survey specifications for the following Nonappropriated Fund areas:

1. Any items needing further clarification or action from the previous meeting.

2. Survey Specifications for the Sacramento, California wage area (AC-002).

3. Survey Specifications for the San Joaquin, California wage area (AC-008).

4. Survey Specifications for the Bernalillo, New Mexico area (AC-019).

5. Survey Specifications for the Dona Ana, New Mexico wage area (AC-021).

6. Survey Specifications for the El Paso, Texas wage area (AC-023).

Reviewing survey results and/or survey specifications for the following Appropriated Fund areas:

7. Wage Schedule (Full Scale) for the Cedar Rapids-Iowa City, Iowa wage area (AC-052).

8. Wage Schedule (Full Scale) for the Madison, Alabama wage area (AC-147).

9. Wage Schedule (Wage Change) for the Dothan, Alabama wage area (AC-003).

10. Wage Schedule (Wage Change) for the Pittsburgh, Pennsylvania wage area (AC-116).

11. Special Rates—Missouri River Power Rate.

12. Any items needing further clarification from this agenda may be discussed during future scheduled meetings.

Closing Remarks by Chair, Mr. Eric Clayton.

October 15, 2024

Opening Remarks by Chair, Mr. Eric Clayton, and DFO, Mr. Karl Fendt. Reviewing survey results and/or survey specifications for the following Nonappropriated Fund areas:

1. Any items needing further clarification or action from the previous meeting.

2. Wage Schedule (Full Scale) for the Los Angeles, California wage area (AC-130).

3. Wage Schedule (Full Scale) for the Orange, California wage area (AC-131).

4. Wage Schedule (Full Scale) for the Ventura, California wage area (AC-132).

5. Wage Schedule (Full Scale) for the Riverside, California wage area (AC-133).

6. Wage Schedule (Full Scale) for the San Bernardino, California wage area (AC-134).

7. Wage Schedule (Full Scale) for the Santa Barbara, California wage area (AC-135).

8. Wage Schedule (Full Scale) for the Guam wage area (AC-150).

9. Wage Schedule (Wage Change) for the Monterey, California wage area (AC-003).

10. Wage Schedule (Wage Change) for the Kern, California wage area (AC-010).

11. Wage Schedule (Wage Change) for the San Diego, California wage area (AC-054).

12. Wage Schedule (Wage Change) for the Solano, California wage area (AC-059).

Reviewing survey results and/or survey specifications for the following Appropriated Fund areas:

13. Wage Schedule (Full Scale) for the Little Rock, Arkansas wage area (AC-011).

14. Wage Schedule (Full Scale) for the Boston, Massachusetts wage area (AC-068).

15. Wage Schedule (Full Scale) for the Portland, Oregon wage area (AC-112).

16. Wage Schedule (Full Scale) for the Wichita Falls, Texas-Southwestern Oklahoma wage area (AC-138).

17. Wage Schedule (Wage Change) for the Washington, District of Columbia wage area (AC-027).

18. Wage Schedule (Wage Change) for the Albany, Georgia wage area (AC-036).

19. Wage Schedule (Wage Change) for the Columbus, Georgia wage area (AC-040).

20. Wage Schedule (Wage Change) for the Northwestern Michigan wage area (AC-071).

21. Wage Schedule (Wage Change) for the Charlotte, North Carolina wage area (AC-100).

22. Wage Schedule (Wage Change) for the Oklahoma City, Oklahoma wage area (AC-109).

23. Wage Schedule (Wage Change) for the Tulsa, Oklahoma wage area (AC-111).

24. Wage Schedule (Wage Change) for the Scranton-Wilkes Barre, Pennsylvania wage area (AC-117).

25. Survey Specifications for the Jacksonville, Florida wage area (AC-030).

26. Survey Specifications for the Detroit, Michigan wage area (AC-070).

27. Survey Specifications for the Southeastern North Carolina wage area (AC-101).

28. Survey Specifications for the Columbus, Ohio wage area (AC-106).

29. Special Pay—Little Rock, Arkansas Special Rates.

30. Special Pay—Boston, Massachusetts Special Rates.

31. Special Pay—Portland, Oregon Special Rates.

32. Any items needing further clarification from this agenda may be discussed during future scheduled meetings.

Closing Remarks by Chair, Mr. Eric Clayton.

October 29, 2024

Opening Remarks by Chair, Mr. Eric Clayton, and DFO, Mr. Karl Fendt. Reviewing survey results and/or survey specifications for the following Appropriated Fund areas:

1. Any items needing further clarification or action from the previous meeting.

2. Survey Specifications for the Denver, Colorado wage area (AC-022).

3. Survey Specifications for the Miami, Florida wage area (AC-031).

4. Survey Specifications for the Cincinnati, Ohio wage area (AC-104).

5. Survey Specifications for the Narragansett Bay, Rhode Island wage area (AC-118).

6. Any items needing further clarification from this agenda may be discussed during future scheduled meetings.

Closing Remarks by Chair, Mr. Eric Clayton.

November 12, 2024

Opening Remarks by Chair, Mr. Eric Clayton, and DFO, Mr. Karl Fendt. Reviewing survey results and/or survey specifications for the following Nonappropriated Fund areas:

1. Any items needing further clarification or action from the previous meeting.

2. Survey Specifications for the Lauderdale, Mississippi wage area (AC-001).

3. Survey Specifications for the Lowndes, Mississippi wage area (AC-004).

4. Survey Specifications for the Rapides, Louisiana wage area (AC-024).

5. Survey Specifications for the Caddo-Bossier, Louisiana wage area (AC-025).

6. Survey Specifications for the Chatham, Georgia wage area (AC-037).

7. Survey Specifications for the Dougherty, Georgia wage area (AC-046).

Reviewing survey results and/or survey specifications for the following Appropriated Fund areas:

8. Wage Schedule (Full Scale) for the Los Angeles, California wage area (AC-013).

9. Wage Schedule (Full Scale) for the San Bernardino-Riverside-Ontario, California wage area (AC-016).

10. Wage Schedule (Full Scale) for the Santa Barbara, California wage area (AC-019).

11. Wage Schedule (Full Scale) for the New London, Connecticut wage area (AC-025).

12. Wage Schedule (Full Scale) for the Panama City, Florida wage area (AC-033).

13. Wage Schedule (Full Scale) for the Chicago, Illinois wage area (AC-047).

14. Wage Schedule (Full Scale) for the Las Vegas, Nevada wage area (AC-085).

15. Wage Schedule (Full Scale) for the Portsmouth, New Hampshire wage area (AC-087).

16. Wage Schedule (Full Scale) for the Seattle-Everett-Tacoma, Washington wage area (AC-143).

17. Wage Schedule (Wage Change) for the San Diego, California wage area (AC-017).

18. Wage Schedule (Wage Change) for the San Francisco, California wage area (AC-018).

19. Wage Schedule (Wage Change) for the Pensacola, Florida wage area (AC-034).

20. Wage Schedule (Wage Change) for the Central Illinois wage area (AC-046).

21. Wage Schedule (Wage Change) for the Des Moines, Iowa wage area (AC-054).

22. Wage Schedule (Wage Change) for the Baltimore, Maryland wage area (AC-066).

23. Wage Schedule (Wage Change) for the Buffalo, New York wage area (AC-092).

24. Survey Specifications for the Sacramento, California wage area (AC-014).

25. Survey Specifications for the Stockton, California wage area (AC-020).

26. Survey Specifications for the Meridian, Mississippi wage area (AC-079).

27. Special Pay—Southwest Power Rate.

28. Special Pay—North Central Power Rate.

29. Special Pay—Los Angeles, California Special Rates.

30. Special Pay—New London, Connecticut Special Rates.

31. Special Pay—Portsmouth, New Hampshire Power Rates.

32. Special Pay—San Diego, California Special Rates.

33. Any items needing further clarification from this agenda may be discussed during future scheduled meetings.

Closing Remarks by Chair, Mr. Eric Clayton.

November 26, 2024

Opening Remarks by Chair, Mr. Eric Clayton, and DFO, Mr. Karl Fendt. Reviewing survey results and/or survey specifications for the following Nonappropriated Fund areas:

1. Any items needing further clarification or action from the previous meeting.

2. Wage Schedule (Full Scale) for the Maricopa, Arizona wage area (AC-012).

3. Wage Schedule (Full Scale) for the Pima, Arizona wage area (AC-013).

4. Wage Schedule (Full Scale) for the Yuma, Arizona wage area (AC-055).

5. Wage Schedule (Full Scale) for the Kings-Queens, New York wage area (AC-091).

6. Wage Schedule (Wage Change) for the Hampden, Massachusetts wage area (AC-039).

7. Wage Schedule (Wage Change) for the Middlesex, Massachusetts wage area (AC-138).

8. Wage Schedule (Wage Change) for the York, Maine wage area (AC-139).

Reviewing survey results and/or survey specifications for the following Appropriated Fund areas:

9. Survey Specifications for the Fresno, California wage area (AC-012).

10. Survey Specifications for the Louisville, Kentucky wage area (AC-059).

11. Survey Specifications for the Jackson, Mississippi wage area (AC-078).

12. Survey Specifications for the Eastern Tennessee wage area (AC-123).

13. Any items needing further clarification from this agenda may be discussed during future scheduled meetings.

Closing Remarks by Chair, Mr. Eric Clayton.

December 10, 2024

Opening Remarks by Chair, Mr. Eric Clayton, and DFO, Mr. Karl Fendt. Reviewing survey results and/or survey specifications for the following Nonappropriated Fund areas:

1. Any items needing further clarification or action from the previous meeting.

2. Survey Specifications for the Richmond, Georgia wage area (AC-035).

3. Survey Specifications for the Houston, Georgia wage area (AC-036).

4. Survey Specifications for the Pulaski, Arkansas wage area (AC-045).

5. Survey Specifications for the Montgomery, Alabama wage area (AC-048).

6. Survey Specifications for the Sedgwick, Kansas wage area (AC-078).

7. Survey Specifications for the Montgomery-Greene, Ohio wage area (AC-166).

Reviewing survey results and/or survey specifications for the following Appropriated Fund areas:

8. Wage Schedule (Full Scale) for the Ft. Wayne-Marion, Indiana wage area (AC-049).

9. Wage Schedule (Full Scale) for the St. Louis, Missouri wage area (AC-081).

10. Wage Schedule (Full Scale) for the Dallas-Ft. Worth, Texas wage area (AC-131).

11. Wage Schedule (Wage Change) for the Cocoa Beach-Melbourne, Florida wage area (AC-028).

12. Wage Schedule (Wage Change) for the Eastern South Dakota wage area (AC-121).

13. Survey Specifications for the Phoenix, Arizona wage area (AC-009).

14. Survey Specifications for the Minneapolis-St. Paul, Minnesota wage area (AC-075).

15. Survey Specifications for the Albany-Schenectady-Troy, New York wage area (AC-091).

16. Any items needing further clarification from this agenda may be discussed during future scheduled meetings.

Closing Remarks by Chair, Mr. Eric Clayton.

December 17, 2024

Opening Remarks by Chair, Mr. Eric Clayton, and DFO, Mr. Karl Fendt. Reviewing survey results and/or survey specifications for the following Appropriated Fund areas:

1. Any items needing further clarification or action from the previous meeting.

2. Wage Schedule (Full Scale) for the Bloomington-Bedford-Washington, Indiana wage area (AC-048).

3. Wage Schedule (Full Scale) for the Indianapolis, Indiana wage area (AC-050).

4. Wage Schedule (Full Scale) for the Kansas City, Missouri wage area (AC-080).

5. Wage Schedule (Full Scale) for the Southern Missouri wage area (AC-082).

6. Wage Schedule (Full Scale) for the Omaha, Nebraska wage area (AC-084).

7. Wage Schedule (Wage Change) for the Davenport-Rock Island-Moline, Iowa wage area (AC-053).

8. Wage Schedule (Wage Change) for the Southwestern Michigan wage area (AC-073).

9. Wage Schedule (Wage Change) for the Philadelphia, Pennsylvania wage area (AC-115).

10. Survey Specifications for the Northeastern Arizona wage area (AC-008).

11. Survey Specifications for the Tucson, Arizona wage area (AC-010).

12. Survey Specifications for the Northern New York wage area (AC-095).

13. Survey Specifications for the West Virginia wage area (AC-146).

14. Special Pay—Omaha, Nebraska Special Rates.

15. Special Pay—Philadelphia, Pennsylvania Special Rates.

16. Any items needing further clarification from this agenda may be discussed during future scheduled meetings.

Closing Remarks by Chair, Mr. Eric Clayton.

Meeting Accessibility: Pursuant to 5 U.S.C. 552b(c)(4), the DoD has determined that the meetings shall be closed to the public. The USD(P&R), in consultation with the DoD Office of General Counsel, has determined in writing that each of these meetings is likely to disclose trade secrets and commercial or financial information obtained from a person and privileged or confidential.

Written Statements: Pursuant to 5 U.S.C. 1009(a)(3) and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meetings that are the subject of this notice.

Dated: September 24, 2024.
Aaron T. Siegel,
Alternate OSD Federal Register Liaison Officer, Department of Defense.

[FR Doc. 2024-22395 Filed 9-27-24; 8:45 am]

BILLING CODE 6001-FR-P